DEPARTMENT OF THE TREASURY

Submission for OMB Review; Comment Request

January 22, 2004.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before March 4, 2004.

Internal Revenue Service (IRS)

OMB Number: 1545-0007.

Form Number: IRS Form T.

Type of Review: Extension.

Title: Forest Activities Schedule.

Description: Form T is filed by individuals and corporations to report income and deductions from the timber business. The IRS uses Form T to determine if the correct amount of income and deduction are reported.

Respondents: Business or other for-profit, individuals or households.

Estimated Number of Respondents/Recordkeepers: 37,000.

Estimated Burden Hours Per Respondent/Recordkeeper:

Recordkeeping | 32 hr., 45 min.
Learning about the law or the form | 42 min.
Preparing and sending the form to the IRS | 1 hr., 15 min.

Frequency of Response: Annually.

Estimated Total Reporting/Recordkeeping Burden: 1,284,640 hours.

OMB Number: 1545-0742.

Regulation Project Number: EE-111-80 Final.

Type of Review: Extension.

Title: Public Inspection of Exempt Organizations Return.

Description: Section 6104(b) authorizes the Service to make available to the public the return required to be filed by exempt organizations. The information requested in Treasury Regulations section 301.6104(b)-1(b)(4) is necessary in order for the Service not to disclose confidential business information furnished by businesses which contribute to exempt black lung trusts.

Respondents: Business or other for-profit.

Estimated Number of Respondents: 22.

Estimated Burden Hours Per Respondent: 1 hour.

Frequency of Response: Annually.

Estimated Total Reporting Burden: 22 hours.

OMB Number: 1545-1458.

Regulation Project Number: REG-209835-86 Final.

Type of Review: Extension.

Title: Computation of Foreign Taxes Deemed Paid Under Section 902 Pursuant to a Pooling Mechanism for Undistributed Earnings and Foreign Taxes.

Description: These regulations provide rules for computing foreign taxes deemed paid under section 902. The regulations affect foreign corporations and their U.S. corporate shareholders.

Respondents: Business or other for-profit.

Estimated Number of Respondents: 1.

Estimated Burden Hours Per Respondent: 1 hour.

Frequency of Response: Annually.

Estimated Total Reporting Burden: 1 hour.

OMB Number: 1545-1590.

Regulation Project Number: REG-251698-96 Final.

Type of Review: Extension.

Title: Subchapter S Subsidiaries.

Description: The IRS will use the information provided by taxpayers to determine whether a corporation should be treated as an S corporation, a C corporation, or an entity that is disregarded for federal tax purposes. The collection of information covered in the regulation is necessary for a taxpayer to obtain, retain, or terminate S corporation treatment.

Respondents: Business or other for-profit, individuals or households, farms.

Estimated Number of Respondents/Recordkeepers: 10,660.

Estimated Burden Hours Per Respondent/Recordkeeper: 57 minutes.

Frequency of Response: On occasion.

Estimated Total Reporting Burden: 10,110 hours.

Clearance Officer: Robert M. Coar, (202) 622-3579, Internal Revenue Service, Room 6411, 1111 Constitution Avenue, NW., Washington, DC 20224.

OMB Reviewer: Joseph F. Lackey, Jr., (202) 395-7316, Office of Management and Budget, Room 10235, New Executive Office Building, Washington, DC 20503.

Lois K. Holland,
Treasury PRA Clearance Officer.

[FR Doc. 04-2142 Filed 2-2-04; 8:45 am]

BILLING CODE 4830-01-P